DEPARTMENT OF THE INTERIOR

Bureau of Land Management

[LLWO200000.LXSGPL000000.18x.L11100000.PH0000]

Notice of Availability of the Wyoming Draft Resource Management Plan Amendment and Draft Environmental Impact Statement for Greater Sage-Grouse Conservation

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared the Wyoming Draft Resource Management Plan (RMP) Amendment and Draft Environmental Impact Statement (EIS) for Wyoming Greater Sage-Grouse (GRSG), and by this notice is announcing the opening of the comment period. BLM Wyoming is soliciting comments on the entire Draft EIS, as well as the specific planning issues mentioned in this NOA, and the cumulative effects analysis.

DATES: To ensure that comments will be considered, the BLM must receive written comments on the Draft RMP Amendment/Draft EIS within 90 days following the date the Environmental Protection Agency publishes a notice of availability of the Draft RMP Amendment/Draft EIS in the Federal Register. The BLM will announce future meetings or hearings and any other public participation activities at least 15 days in advance through public notices, media releases, and/or mailings.

ADDRESSES: You may submit comments related to the Wyoming Draft RMP Amendment/Draft EIS by any of the following methods:

• website: https://goo.gl/22jKE2.

• mail: attn: Greater Sage-Grouse EIS, BLM Wyoming State Office, 5353 Yellowstone Road, Cheyenne, WY 82009.

Copies of the Wyoming Draft RMP Amendment/Draft EIS are available in the Wyoming State Office at the above address or on the project website at: https://goo.gl/22jKE2.

FOR FURTHER INFORMATION CONTACT: For further information contact Jennifer Fleuret, Planning and Environmental Coordinator, by telephone, 307-775-6329; at the address above; or by email, jfleuret@blm.gov. Persons who use a telecommunications device for the deaf (TDD) may call the Federal Relay Service (FRS) at 1-800-877-8339 to contact Ms. Fleuret. The FRS is available 24 hours a day, 7 days a week, to leave a message or question with Ms. Fleuret. You will receive a reply during normal business hours.

SUPPLEMENTARY INFORMATION: Greater Sage-Grouse is a state-managed species that is dependent on sagebrush steppe ecosystems. These ecosystems are managed in partnership across the range of the Greater Sage-Grouse by federal, state, and local authorities. Efforts to conserve the species and its habitat date back to the 1950s. Over the past two decades, state wildlife agencies, federal agencies, and many others in the range of the species have been collaborating to conserve Greater Sage-Grouse and its habitats. The United States Department of the Interior (DOI) and the BLM have broad responsibilities to manage federal lands and resources for the public benefit. Nearly half of Greater Sage-Grouse habitat is managed by the BLM. The BLM is committed to being a good neighbor and investing in on-the-ground conservation activities through close collaboration with State governments, local communities, private landowners, and other stakeholders.

In September 2015, the U.S. Fish and Wildlife Service (USFWS) determined that the Greater Sage-Grouse did not warrant listing under the Endangered Species Act of 1973. The USFWS based its “not warranted” determination, in part, on the conservation commitments and management actions in the BLM and U.S. Forest Service (Forest Service) Greater Sage-Grouse land use plan amendments and revisions (2015 GRSG land use plan decisions), as well as on other private, state, and federal conservation efforts. Since 2015 the BLM, in discussion with partners, primarily Governors and state wildlife management agencies, recognized that several refinements and policy updates could help strengthen conservation efforts, while providing increased economic opportunity to local communities. The BLM and Department of Interior worked closely with Governors charged with managing Greater Sage-Grouse to determine whether some, none, or all of the 2015 Land Use Plans should be amended. After carefully considering the Governor's input, and using its discretion and authority under FLPMA, as well as under direction from the Secretary, including Secretary's Order (SO) 3353, the BLM proposes amending the Wyoming Greater Sage-Grouse land use plans that address GRSG management. This action is proposed to enhance cooperation and improve alignment with the state plans or management strategies, in accordance with the BLM's multiple use and sustained yield mission. The BLM prepared the Wyoming Greater Sage-Grouse Draft RMP Amendment/Draft EIS to address alternatives that will build upon its commitment to conserve and restore Greater Sage-Grouse habitat, while improving collaboration and alignment with state management strategies for Greater Sage-Grouse. The BLM seeks to improve management alignment in ways that will increase management flexibility, maintain access to public resources, and promote conservation outcomes. The BLM used internal, agency, and public scoping to identify issues considered in the environmental analysis. As part of this analysis, the BLM also examined the range of alternatives evaluated in the BLM's 2015 GRSG land use plan decisions and their supporting NEPA analyses.

This Draft RMP Amendment/Draft EIS is one of six separate planning efforts that are being undertaken in response to SO 3353, Greater Sage-Grouse Conservation and Cooperation with Western States (June 7, 2017), and in accordance with SO 3349, American Energy Independence (March 29, 2017). The Draft RMP Amendment/Draft EIS proposes to amend the RMPs for field offices on BLM lands within BLM Wyoming boundaries. The current management decisions for resources are described in the following resource management plans (RMPs):

• Buffalo RMP (2015)

• Casper RMP (2007)

• Cody RMP (2015)

• Kemmerer RMP (2010)

• Lander RMP (2014)

• Newcastle RMP (2000)

• Pinedale RMP (2008)

• Rawlins RMP (2008)

• Green River RMP (1997)

• Worland RMP (2015)

The planning area includes nearly 60 million acres of BLM, National Park Service, U.S. Forest Service, U.S. Bureau of Reclamation, State, local, and private lands located in Wyoming, in 20 counties: Albany, Bighorn, Campbell, Carbon, Converse, Crook, Fremont, Hot Springs, Johnson, Lincoln, Natrona, Niobrara, Park, Sheridan, Sublette, Sweetwater, Teton, Uinta, Washakie, and Weston. Within the decision area, the BLM administers more than 18 million acres of public lands, providing approximately 17 million acres of Priority and General GRSG habitat. Surface management decisions made as a result of this Draft RMP Amendment/Draft EIS will apply only to BLM administered lands in the decision area.

The formal public scoping process for the RMP Amendment/EIS began on October 11, 2017, with the publication of a Notice of Intent in the Federal Register (82 FR 47248), and ended on December 1, 2017. The BLM Wyoming held two public scoping meetings in November 2017. The BLM used scoping comments to help identify planning issues to form alternatives and frame the scope of the analysis in the Draft RMP Amendment/Draft EIS. The scoping process was also used to familiarize the public and introduce them to preliminary planning criteria, which sets limits on the scope of the Draft RMP Amendment/Draft EIS.

The Draft RMP Amendment/Draft EIS addresses the designation of sagebrush focal areas, mitigation standards, clarification of habitat objectives tables, adjustments to habitat boundaries to reflect new information, and reversing adaptive management responses when the BLM determines that resource conditions no longer warrant those responses.

The Draft RMP Amendment/Draft EIS evaluates two alternatives in detail, including the No Action Alternative (Alternative A) and one action alternative (Alternative B). Alternative B has been identified as BLM's Preferred Alternative for the purposes of public comment and review. Identification of this alternative, however, does not represent final agency direction, and the Proposed RMP Amendment/Final EIS may reflect changes or adjustments from information received during public comment, from new information, or from changes in BLM policies or priorities. The Proposed RMP Amendment/Final EIS may include objectives and actions described in the other analyzed alternative as well. In addition, certain components of the 2015 GRSG plans are not present in the Lander RMP; therefore, only the portions applicable to Lander would be amended through this process.

Alternative A would retain the current management goals, objectives, and direction specified in the current RMPs for each field office.

Please note that public comments and information submitted including names, street addresses, and email addresses of persons who submit comments will be available for public review and disclosure at the address provided in the ADDRESSES section of this notice during regular business hours (8:00 a.m. to 4:00 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2

Mary Jo Rugwell,
State Director, Wyoming.

[FR Doc. 2018-09524 Filed 5-3-18; 8:45 am]

BILLING CODE 4310-84-P